DEPARTMENT OF HEALTH AND HUMAN SERVICES

Agency for Healthcare Research and Quality

Solicitation for Nominations for Members of the U.S. Preventive Services Task Force (USPSTF)

AGENCY: Agency for Healthcare Research and Quality (AHRQ), HHS.

ACTION: Solicits nominations for new members of USPSTF.

SUMMARY: The Agency for Healthcare Research and Quality (AHRQ) invites nominations of individuals qualified to serve as members of the U.S. Preventive Services Task Force (USPSTF).

The USPSTF, a standing, panel of outside experts that makes evidence-based recommendations to the health care community and the public regarding the provision of clinical preventive services, is composed of members appointed to serve for four year terms with an option for reappointment. New members are selected each year to replace approximately one fourth of the USPSTF members, i.e., those who are completing their appointments. Individuals nominated but not appointed in previous years, as well as those newly nominated, are considered in the annual selection process.

USPSTF members meet three times a year for two days in the Washington, DC area. Between meetings, member duties include reviewing and preparing comments (off site) on systematic evidence reviews prior to discussing and making recommendations on preventive services, drafting final recommendation documents, and participating in workgroups on specific topics or methods.

To obtain a diversity of perspectives, and enhance opportunities, AHRQ particularly encourages nominations of women, members of minority populations, and persons with disabilities. Interested individuals can self nominate. Organizations and individuals may nominate one or more persons qualified for membership on the USPSTF.

Qualification Requirements: The mission of the USPSTF is to produce evidence-based recommendations on the appropriate screening, counseling, and provision of preventive medication for asymptomatic patients seen in the primary care setting. Therefore, in order to qualify for the USPSTF, an applicant or nominee must demonstrate the following:

1. Knowledge and experience in the critical evaluation of research published in peer reviewed literature and in the methods of evidence review;

2. Understanding and experience in the application of synthesized evidence to clinical decision-making and/or policy;

3. Expertise in disease prevention and health promotion;

4. Ability to work collaboratively with peers; and,

5. Clinical expertise in the primary health care of children and/or adults, and/or expertise in counseling and behavioral interventions for primary care patients.

Some USPSTF members without primary health care clinical experience may be selected based on their expertise in methodological issues such as medical decision-making, clinical epidemiology, behavioral medicine, and health economics.

Consideration will be given to individuals who are recognized nationally for scientific leadership within their field of expertise. Applicants must have no substantial conflicts of interest, whether financial, professional, or other conflicts, that would impair the scientific integrity of the work of the USPSTF.

DATES: All nominations submitted in writing or electronically, and received by Friday, May 15, 2009, will be considered for appointment to the USPSTF.

Nominated individuals will be selected for the USPSTF on the basis of their qualifications (in particular, those that address the required qualifications, outlined above) and the current expertise needs of the USPSTF. It is anticipated that four indMduals will be invited to serve on the USPSTF beginning in January, 2010. All individuals will be considered; however, strongest consideration will be given to individuals with demonstrated expertise in a specific area such as obstetrics/gynecology, pediatrics, nursing and methodology. AHRQ will retain and consider for future vacancies the nominations of those not selected during this cycle.

ADDRESSES: Submit your responses either in writing or electronically to: Gloria Washington, ATTN: USPSTF Nominations, Center for Primary Care, Prevention, and Clinical Partnerships, Agency for Healthcare Research and Quality, 540 Gaither Road, Rockville, Maryland 20850, http://dreamless.keenspot.com/comic.rss.

Nomination Submissions

Nominations may be submitted in writing or electronically, but must include (1) the applicant's current curriculum vitae and contact information, including mailing address, e-mail address, and telephone number and (2) a letter explaining how this individual meets the qualification requirements and how he/she would contribute to the USPSTF. The letter should also attest to the nominee's willingness to serve as a member of the USPSTF.

AHRQ will later ask persons under serious consideration for membership to provide detailed information that will permit evaluation of possible significant conflicts of interest. Such information will concern matters such as financial holdings, consultancies, and research grants or contracts.

Nominee Selection

Appointments to the USPSTF will be made on the basis of qualifications as outlined above (see Qualification Requirements) and the current expertise needs of the USPSTF.

Arrangement for Public Inspection

Nominations and applications are kept on file at the Center for Primary Care, Prevention, and Clinical Partnerships, AHRQ, and are available for review during business hours. AHRQ does not reply to individual nominations, but considers all nominations in selecting members. Information regarded as private and personal, such as a nominee's social security number, home and e-mail addresses, home telephone and fax numbers, or names of family members will not be disclosed to the public. This is in accord with AHRQ confidentiality policies and Department of Health and Human Services regulations (45 CFR 5.67).

FOR FURTHER INFORMATION CONTACT: Gloria Washington at uspstaskforce@ahrg.hhs.gov

SUPPLEMENTARY INFORMATION:

Background

Under Title IX of the Public Health Service Act, AHRQ is charged with enhancing the quality, appropriateness, and effectiveness of health care services and access to such services. 42 U.S.C. 299(b). AHRQ accomplishes these goals through scientific research and promotion of improvements in clinical practice, including clinical prevention of diseases and other health conditions, and improvements in the organization, financing, and delivery of health care services. See 42 U.S.C. 299(b).

The USPSTF is a panel of outside experts that makes independent evidence-based recommendations regarding the provision of clinical preventive services. The USPSTF was first established in 1984 under the auspices of the U.S. Public Health Service. Currently, the USPSTF is convened by the Director of AHRQ, and AHRQ provides ongoing administrative, research and technical support for the USPSTF's operation. The USPSTF is charged with rigorously evaluating the effectiveness, cost-effectiveness and appropriateness of clinical preventive services and formulating or updating recommendations for primary care clinicians regarding the appropriate provision of preventive services. See 42 U.S.C. 299b4(a)(1). AHRQ is charged with the dissemination of recommendations. In addition to hard copy materials (that may be obtained from the Publications Clearinghouse), current USPSTF recommendations and associated evidence reviews are available on the Internet (http://www.preventiveservices.ahrg.gov).

Dated: March 27, 2009.
Carolyn M. Clancy,
Director.

[FR Doc. E9-8040 Filed 4-9-09; 8:45 am]

BILLING CODE 4160-90-P